DEPARTMENT OF HEALTH AND HUMAN SERVICES

National Institutes of Health

National Center for Complementary & Alternative Medicine; Amended Notice of Meeting

Notice is hereby given of a change in the meeting of the National Center for Complementary and Alternative Medicine Special Emphasis Panel, July 25, 2006, 8 a.m. to July 25, 2006, 5 p.m., National Center for Complementary, and Alternative Medicine, NIH, 6707 Democracy Boulevard, Suite 401, Bethesda, MD, 20892 which has published in the Federal Register on July 6, 2006, 71 FR 38405.

The meeting date has been changed from July 25, 2006 to July 27, 2006. The meeting is closed to the public.

Dated: July 18, 2006.
Anna Snouffer,
Acting Director, Office of Federal Advisory Committee Policy.

[FR Doc. 06-6454 Filed 7-24-06; 8:45 am]

BILLING CODE 4140-01-M